DEPARTMENT OF COMMERCE

International Trade Administration

[A-570-139]

Certain Mobile Access Equipment and Subassemblies Thereof From the People's Republic of China: Final Affirmative Determination of Sales at Less Than Fair Value

AGENCY: Enforcement and Compliance, International Trade Administration, Department of Commerce.

SUMMARY: The Department of Commerce (Commerce) determines that certain mobile access equipment and subassemblies thereof (mobile access equipment) from the People's Republic of China (China) are being, or are likely to be sold, in the United States at less than fair value (LTFV).

DATES: Applicable February 22, 2022.

FOR FURTHER INFORMATION CONTACT: Hermes Pinilla or Andre Gziryan, AD/CVD Operations, Office I, Enforcement and Compliance, International Trade Administration, U.S. Department of Commerce, 1401 Constitution Avenue NW, Washington, DC 20230; telephone: (202) 482-3477 or (202) 482-2201, respectively.

SUPPLEMENTARY INFORMATION:

Background

On September 30, 2021, Commerce published in the Federal Register its preliminary determination in the LTFV investigation of mobile access equipment from China, in which it also postponed the final determination until February 14, 2022.¹ We invited interested parties to comment on the Preliminary Determination. For a summary of the events that occurred since Commerce published the Preliminary Determination, as well as a full discussion of the issues raised by parties for this final determination, see the Issues and Decision Memorandum.²

¹ See Certain Mobile Access Equipment and Subassemblies Thereof from the People's Republic of China: Preliminary Affirmative Determination of Sales at Less Than Fair Value, Postponement of Final Determination, and Extension of Provisional Measures, 86 FR 54164 (September 30, 2021) (Preliminary Determination), and accompanying Preliminary Decision Memorandum (PDM).

² See Memorandum, “Certain Mobile Access Equipment and Subassemblies Thereof from the People's Republic of China: Decision Memorandum for the Final Affirmative Determination of Sales at Less-Than-Fair-Value,” dated concurrently with, and hereby adopted by, this notice (Issues and Decision Memorandum).

Period of Investigation

The period of investigation is July 1, 2020, through December 31, 2020.

Scope of the Investigation

The products covered by this investigation are mobile access equipment from China. For a complete description of the scope of this investigation, see Appendix I.

Scope Comments

On July 26, 2021, we issued a Preliminary Scope Decision Memorandum.³ As discussed in the Preliminary Determination, Commerce did not modify the scope language as it appeared in the Initiation Notice.⁴ Interested parties were provided an opportunity to comment on the Preliminary Scope Decision Memorandum in scope case and rebuttal briefs.⁵ We received comments from interested parties on the Preliminary Scope Decision Memorandum, which we addressed in the Final Scope Decision Memorandum.⁶ Commerce is modifying the scope language as it appeared in the Preliminary Determination. See Appendix I for the final scope of this investigation.

³ See Memorandum, “Certain Mobile Access Equipment and Subassemblies Thereof from the People's Republic of China: Decision Memorandum for the Final Affirmative Determination of Sales at Less-Than-Fair-Value,” dated concurrently with, and hereby adopted by, this notice (Issues and Decision Memorandum).

⁴ See Certain Mobile Access Equipment and Subassemblies Thereof from the People's Republic of China: Initiation of Less-Than-Fair-Value Investigation, 86 FR 15922, 15927 (March 25, 2021) (Initiation Notice).

⁵ See Preliminary Scope Decision Memorandum at 2.

⁶ See Memorandum, “Antidumping Duty and Countervailing Duty Investigations of Certain Mobile Access Equipment and Subassemblies Thereof from the People's Republic of China: Final Scope Decision Memorandum,” dated October 12, 2021 (Final Scope Decision Memorandum).

Verification

Commerce was unable to conduct on-site verification of the information relied upon in making its final determination in this investigation. However, we took additional steps in lieu of an on-site verification to verify the information provided by the two mandatory respondents, Zhejiang Dingli Machinery Co., Ltd. (Dingli) and Lingong Group Jinan Heavy Machinery Co., Ltd. (LGMG) we relied upon in making this final determination, in accordance with section 782(i) of the Tariff Act of 1930, as amended (the Act).⁷

⁷ See Commerce's Letters, “In-lieu of on-site Verification Questionnaire,” dated November 1, 2021; and, “In-lieu of on-site Verification Questionnaire,” dated October 19, 2021.

Analysis of Comments Received

All issues raised in the case and rebuttal briefs that were submitted by interested parties in this investigation are addressed in the Issues and Decision Memorandum. For a list of the issues raised by interested parties and addressed in the Issues and Decision Memorandum, see Appendix II to this notice. The Issues and Decision Memorandum is a public document and is available electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

China-Wide Entity and Use of Adverse Facts Available

For the reasons explained in the Preliminary Determination, we continue to find that the use of adverse facts available (AFA), pursuant to sections 776(a) and (b) of the Act, is warranted in determining the rate for the China-wide entity.⁸ In selecting the AFA rate for the China-wide entity, Commerce's practice it to select a rate that is sufficiently adverse to ensure that the uncooperative party does not obtain a more favorable result by failing to cooperate than if it had fully cooperated.⁹ As AFA, we assigned the China-wide entity a dumping margin of 165.30 percent, which is the highest calculated rate in this investigation. Because this constitutes primary information, the statutory corroboration requirement in section 776(c) of the Act does not apply.

⁸ See Preliminary Determination PDM at 16-18.

⁹ See, e.g., Certain Uncoated Paper from Indonesia: Final Determination of Sales at Less Than Fair Value , 81 FR 3101 (January 20, 2016).

Changes Since the Preliminary Determination

Based on our analysis of the comments received, we made certain changes to the margin calculations for Dingli and LGMG. For a discussion of these changes, see the “Changes from the Preliminary Determination” section of the Issues and Decision Memorandum.

Separate Rates

For the final determination, we continue to find that Dingli and LGMG are eligible for separate rates. Generally, Commerce looks to section 735(c)(5)(A) of the Act, which provides instructions for calculating the all-others rate in an investigation, for guidance when calculating the rate for separate rate respondents which we did not individually examine. Because the calculated dumping margins of the mandatory respondents, Dingli and LGMG, are not zero, de minimis , or based entirely on facts available, consistent with section 735(c)(5)(A) of the Act and our practice,¹⁰ based on publicly ranged sales data, we assigned the weighted average of these mandatory respondents' margins to all non-individually examined companies that qualified for a separate rate.

¹⁰ See Ball Bearings and Parts Thereof from France, Germany, Italy, Japan, and the United Kingdom: Final Results of Antidumping Duty Administrative Reviews and Rescission of Reviews in Part, 73 FR 52823, 52824 (September 11, 2008), and accompanying Issues and Decision Memorandum at Comment 16.

Combination Rates

In the Initiation Notice,¹¹ Commerce stated that it would calculate producer/exporter combination rates for the respondents that are eligible for a separate rate in this investigation. For the list of respondents that established eligibility for separate rates and the exporter/producer combination rates applicable to these respondents, see the Final Determination section.

¹¹ See Initiation Notice, 86 FR at 15926.

Final Determination

Commerce determines that the estimated weighted-average dumping margins are as follows:

Exporter | Producer | Estimated weighted-average dumping margin (percent) | Cash deposit rate (adjusted for subsidy offsets) (percent)
Lingong Group Jinan Heavy Machinery Co., Ltd | Lingong Group Jinan Heavy Machinery Co., Ltd | 165.30 | 165.10
Zhejiang Dingli Machinery Co., Ltd | Zhejiang Dingli Machinery Co., Ltd | 31.70 | 31.54

Separate Rate Applicable to the Following Non-Selected Companies
Non-selected exporter receiving a separate rate | Producer supplying the non-selected exporter receiving a separate rate | Estimated weighted-average dumping margin (percent) | Cash deposit rate (adjusted for subsidy offsets) (percent)
Hunan Sinoboom Intelligent Equipment Co., Ltd | Hunan Sinoboom Intelligent Equipment Co., Ltd | 51.83 | 51.66
Mantall Heavy Industry Co., Ltd | Mantall Heavy Industry Co., Ltd | 51.83 | 51.66
Noblelift Intelligent Equipment Co., Ltd | Noblelift Intelligent Equipment Co., Ltd | 51.83 | 51.66
Oshkosh JLG (Tianjin) Equipment Technology Co., Ltd | Noblelift Intelligent Equipment Co., Ltd | 51.83 | 51.66
Sany Marine Heavy Industry Co., Ltd | Sany Marine Heavy Industry Co., Ltd | 51.83 | 51.66
Terex (Changzhou) Machinery Co., Ltd | Terex (Changzhou) Machinery Co, Ltd | 51.83 | 51.66
Xuzhou Construction Machinery Group Imp. & Exp. Co., Ltd | Xuzhou Construction Machinery Group Fire-Fighting Safety Equipment Co., Ltd | 51.83 | 51.66
China-Wide Entity |  | 165.30 | 165.14

Disclosure

Commerce intends to disclose its calculations and analysis performed to interested parties in this final determination within five days of any public announcement or, if there is no public announcement, within five days of the date of publication of this notice in accordance with 19 CFR 351.224(b).

Continuation of Suspension of Liquidation

In accordance with section 735(c)(1)(B) of the Act, Commerce will instruct U.S. Customs and Border Protection (CBP) to continue to suspend liquidation of all appropriate entries of subject merchandise, as described in the scope of the investigation in Appendix I, entered, or withdrawn from warehouse, for consumption on or after the date of publication of this notice in the Federal Register , as discussed below.

Pursuant to section 735(c)(1)(B)(ii) of the Act, upon the publication of this notice, Commerce will instruct CBP to require a cash deposit equal to the weighted-average amount by which the normal value exceeds U.S. price as follows: (1) For the producer/exporter combinations listed in the table above, the cash deposit rate will be the rate identified for that combination in the table; (2) for all combinations of Chinese producers/exporters of subject merchandise that have not established eligibility for their own separate rates, the cash deposit rate will be the rate established for the China-wide entity; and (3) for all non-Chinese exporters of subject merchandise which have not established eligibility for their own separate rates, the cash deposit rate will be the cash deposit rate applicable to the Chinese producer/exporter combination (or China-wide entity) that supplied that non-Chinese exporter.

To determine the cash deposit rate, Commerce normally adjusts the estimated weighted-average dumping margin by the amount of domestic subsidy pass-through and export subsidies determined in a companion CVD proceeding when CVD provisional measures are in effect. For a discussion of the applicable adjustments for this final determination, see Issues and Decision Memorandum.¹² These suspension of liquidation instructions will remain in effect until further notice.

¹² See Issues and Decision Memorandum at 4-5.

International Trade Commission Notification

In accordance with section 735(d) of the Act, we will notify the International Trade Commission (ITC) of our final affirmative determination of sales at LTFV. Because Commerce's final determination is affirmative, in accordance with section 735(b)(2) of the Act, the ITC will make its final determination as to whether the domestic industry in the United States is materially injured, or threatened with material injury, by reason of imports or sales (or the likelihood of sales) for importation of mobile access equipment from China no later than 45 days after this final determination. If the ITC determines that such injury does exist, Commerce will issue an antidumping duty order directing CBP to assess, upon further instructions by Commerce, antidumping duties on all imports of the subject merchandise entered, or withdrawn from warehouse, for consumption on or after the effective date of the suspension of liquidation, as discussed above in the “Continuation of Suspension of Liquidation” section of this notice.

Notification Regarding Administrative Protective Order

In the event that the ITC issues a final negative injury determination, this notice will serve as the only reminder to parties subject to an Administrative Protective Order (APO) of their responsibility concerning the destruction of proprietary information disclosed under APO in accordance with 19 CFR 351.305(a)(3). Timely written notification of the return/destruction of APO materials or conversion to judicial protective order is hereby requested. Failure to comply with the regulations and terms of an APO is a violation which is subject to sanction.

Notification to Interested Parties

This determination is issued and published pursuant to sections 735(d) and 777(i)(1) of the Act, and 19 CFR 351.210(c).

Dated: February 14, 2022.
Lisa W. Wang,
Assistant Secretary for Enforcement and Compliance.

Appendix I

Scope of the Investigation

The merchandise covered by this investigation consists of certain mobile access equipment, which consists primarily of boom lifts, scissor lifts, and material telehandlers, and subassemblies thereof. Mobile access equipment combines a mobile (self-propelled or towed) chassis, with a lifting device (e.g. , scissor arms, boom assemblies) for mechanically lifting persons, tools and/or materials capable of reaching a working height of ten feet or more, and a coupler that provides an attachment point for the lifting device, in addition to other components. The scope of this investigation covers mobile access equipment and subassemblies thereof whether finished or unfinished, whether assembled or unassembled, and whether the equipment contains any additional features that provide for functions beyond the primary lifting function.

Subject merchandise includes, but is not limited to, the following subassemblies:

• Scissor arm assemblies, or scissor arm sections, for connection to chassis and platform assemblies. These assemblies include: (1) Pin assemblies that connect sections to form scissor arm assemblies, and (2) actuators that power the arm assemblies to extend and retract. These assemblies may or may not also include blocks that allow sliding of end sections in relation to frame and platform, hydraulic hoses, electrical cables, and/or other components;

• boom assemblies, or boom sections, for connection to the boom turntable, or to the chassis assembly, or to a platform assembly or to a lifting device. Boom assemblies include telescoping sections where the smallest section (or tube) can be nested in the next larger section (or tube) and can slide out for extension and/or articulated sections joined by pins. These assemblies may or may not include pins, hydraulic cylinders, hydraulic hoses, electrical cables, and/or other components;

• chassis assemblies, for connection to scissor arm assemblies, or to boom assemblies, or to boom turntable assemblies. Chassis assemblies include: (1) Chassis frames, and/or (2) frame sections. Chassis assemblies may or may not include axles, wheel end components, steering cylinders, engine assembly, transmission, drive shafts, tires and wheels, crawler tracks and wheels, fuel tank, hydraulic oil tanks, battery assemblies, and/or other components;

• boom turntable assemblies, for connection to chassis assemblies, or to boom assemblies. Boom turntable assemblies include turntable frames. Boom turntable assemblies may or may not include engine assembly, slewing rings, fuel tank, hydraulic oil tank, battery assemblies, counterweights, hoods (enclosures), and/or other components.

Importation of any of these subassemblies, whether assembled or unassembled, constitutes unfinished mobile access equipment for purposes of this investigation.

Processing of finished and unfinished mobile access equipment and subassemblies such as trimming, cutting, grinding, notching, punching, slitting, drilling, welding, joining, bolting, bending, beveling, riveting, minor fabrication, galvanizing, painting, coating, finishing, assembly, or any other processing either in the country of manufacture of the in-scope product or in a third country does not remove the product from the scope. Inclusion of other components not identified as comprising the finished or unfinished mobile access equipment does not remove the product from the scope.

The scope excludes forklifts, vertical mast lifts, mobile self-propelled cranes and motor vehicles that incorporate a scissor arm assembly or boom assembly. Forklifts are material handling vehicles with a working attachment, usually a fork, lifted along a vertical guide rail with the operator seated or standing on the chassis behind the vertical mast. Vertical mast lifts are person and material lifting vehicles with a working attachment, usually a platform, lifted along a vertical guide rail with an operator standing on the platform. Mobile self-propelled cranes are material handling vehicles with a boom attachment for lifting loads of tools or materials that are suspended on ropes, cables, and/or chains, and which contain winches mounted on or near the base of the boom with ropes, cables, and/or chains managed along the boom structure. The scope also excludes motor vehicles (defined as a vehicle driven or drawn by mechanical power and manufactured primarily for use on public streets, roads, and highways, but does not include a vehicle operated only on a rail line pursuant to 49 U.S.C. 30102(a)(7)) that incorporate a scissor arm assembly or boom assembly. The scope further excludes vehicles driven or drawn by mechanical power operated only on a rail line that incorporate a scissor arm assembly or boom assembly. The scope also excludes: (1) Rail line vehicles, defined as vehicles with hi-rail gear or track wheels, and a fixed (non-telescopic) main boom, which perform operations on rail lines, such as laying rails, setting ties, or other rail maintenance jobs; and (2) certain rail line vehicle subassemblies, defined as chassis subassemblies and boom turntable subassemblies for rail line vehicles with a fixed (non-telescopic) main boom.

Certain mobile access equipment subject to this investigation is typically classifiable under subheadings 8427.10.8020, 8427.10.8030, 8427.10.8070, 8427.10.8095, 8427.20.8020, 8427.20.8090, 8427.90.0020 and 8427.90.0090 of the Harmonized Tariff Schedule of the United States (HTSUS). Parts of certain mobile access equipment are typically classifiable under subheading 8431.20.0000 of the HTSUS. While the HTSUS subheadings are provided for convenience and customs purposes only, the written description of the merchandise under investigation is dispositive.

Appendix II

List of Topics Discussed in the Issues and Decision Memorandum

I. Summary

II. Background

III. Period of Investigation

IV. Scope of Investigation

V. Adjustment Under Section 777A(f) of the Act

VI. Adjustment to Cash Deposit Rate For Export Subsidies

VII. Changes Since the Preliminary Determination

VIII. Discussion of the Issues

Issues Related to Dingli

Comment 1: Should China to the United States Ocean Freight Surrogate Values (SVs) be Revised

Comment 2: Should World to Brazil Ocean Freight SVs be Revised

Comment 3: Should Commerce Multiply the Value of Marine Insurance to Cover 110 percent of the Total Value of the Goods Shipped

Comment 4: Should Commerce Include Research and Development Expenses in General and Administrative Expenses for Further Manufacturing

Comment 5: Should Commerce Reject Dingli's Submission of Untimely New Factual Information

Comment 6: Should Commerce Make Revisions to its SVs for Dingli's Inputs for the Final Determination

Comment 7: Should Commerce Value Certain Inputs that Include Alloy and Non-Alloy Harmonized Tariff Schedule Headings Based on a Simple Average of SVs

Comment 8: Whether Commerce's Application of the Cohen's-d Test to Dingli's U.S. Sales is Unsupported by Substantial Evidence and Controlling Law

Issues Related LGMG

Comment 9: Should Commerce Revise its SVs for LGMG's Inputs for the Final Determination

Comment 10: Should Commerce Apply Circumstance of Sale Adjustments to Certain LGMG Sales for the Final Determination

Issues Related to Dingli and LGMG

Comment 11: Should Commerce Deduct Section 301 Duties from U.S. Sales Prices in Calculating Dingli's and LGMG's Dumping Margin

Issues Related to Skyjack Inc. (Skyjack)

Comment 12: Whether Skyjack is Entitled to a Separate Rate

IX. Recommendation

[FR Doc. 2022-03660 Filed 2-18-22; 8:45 am]

BILLING CODE 3510-DS-P